ENVIRONMENTAL PROTECTION AGENCY

[OEI-10014; FRL-6723-7]

Draft Guidelines for Ensuring and Maximizing the Quality, Objectivity, Utility, and Integrity of Information Disseminated by the Environmental Protection Agency

AGENCY: Environmental Protection Agency, EPA.

ACTION: Notice of availability; comment request; meeting announcement.

SUMMARY: The U.S. Environmental Protection Agency (EPA) is currently developing Guidelines for Ensuring and Maximizing the Quality, Objectivity, Utility, and Integrity of Information Disseminated by the Environmental Protection Agency (herein after referred to as “Information Quality Guidelines”), in response to an Office of Management and Budget (OMB) guideline directing all federal agencies to develop and implement their own guidelines by October 1, 2002 (67 FR 8451, February 22, 2002). EPA's “Information Quality Guidelines” will build upon on-going efforts to improve the quality of the data and analyses that support Agency policy and regulatory decisions and programs. EPA is announcing the availability of the Agency's draft “Information Quality Guidelines” and is requesting comment on them. The draft “Information Quality Guidelines” are available at EPA's Web site, www.epa.gov/oei/qualityguidelines. In addition, EPA is announcing a public meeting in Washington, DC to discuss EPA draft “Information Quality Guidelines''.

DATES: Comments must be received on or before May 31, 2002, 11:59 pm EST. The public meeting will be held on May 15, 2002.

ADDRESSES: Comments should be addressed to: Docket ID No. OEI-10014 which has been established at: U.S. EPA, Northeast Mall, Room B607, 401 M Street SW., Washington, DC, 20460. Comments may be submitted by web site, e-mail, mail, facsimile, or in person. The public meeting will be held in Washington, DC. See the “Supplementary Information” section for instructions on submitting comments and public meeting information.

FOR FURTHER INFORMATION CONTACT: Ms. Evangeline Tsibris Cummings, Environmental Protection Agency, Office of Environmental Information, Mail Code 2842T, 1200 Pennsylvania Avenue NW., Washington, DC 20460. Telephone: 202-566-0621; e-mail: cummings.evangeline@epa.gov.

SUPPLEMENTARY INFORMATION:

What Are EPA's “Information Quality Guidelines''?

EPA drafted Guidelines for Ensuring and Maximizing the Quality, Objectivity, Utility, and Integrity of Information Disseminated by the Environmental Protection Agency to comply with a new Office of Management and Budget (OMB) guideline (67 FR 8451, February 22, 2002). Section 515 of the “Treasury and General Government Appropriations Act for FY2001 (Pub. L. 106-554)” directed OMB to issue government-wide guidelines that “provide policy and procedural guidance to Federal agencies for ensuring and maximizing the quality, objectivity, utility, and integrity of information, including statistical information, disseminated by Federal agencies.” EPA's “Information Quality Guidelines” will build upon on-going efforts to improve the quality of the data and analyses that are used to support Agency policy and regulatory decisions and programs.

EPA is seeking comments on many key areas of the “Information Quality Guidelines” developed thus far. Specific areas have been highlighted in a Request for Comments section of the “Information Quality Guidelines”. After the comment period closes on May 31, 2002, EPA plans to submit the Agency's revised “Information Quality Guidelines” to OMB by July 1, 2002.

How Can I get Copies of the Draft EPA “Information Quality Guidelines”?

EPA has established a public docket for these draft “Information Quality Guidelines” under Docket ID No. OEI-10014. The docket contains background information and supporting materials available for public viewing at: Northeast Mall, Room B607, 401 M Street SW., Washington, DC, 20460. This docket consists of a copy of the “Information Quality Guidelines”, public comments received during the public comment period on the “Information Quality Guidelines”, and other information related to the “Information Quality Guidelines”. The docket is open from 12:00 pm to 4:00 pm EST, Monday through Friday, excluding legal holidays.

You may also access EPA's draft “Information Quality Guidelines” and other information related to this notice electronically at this web page: www.epa.gov/oei/qualityguidelines. To obtain a written copy of the draft “Information Quality Guidelines”, you may contact: Ms. Evangeline Tsibris Cummings, U.S. Environmental Protection Agency, Office of Environmental Information, Mail Code 2842T, 1200 Pennsylvania Avenue NW., Washington, DC, 20460; Telephone: 202-566-0621; or e-mail: cummings.evangeline@epa.gov.

EPA intends to make public comments and supplemental information that are received during the comment period available for public viewing via EPA's Web site at www.epa.gov/oei/qualityguidelines, as the Agency receives them and without change, unless the comments contain copyrighted material, Confidential Business Information (CBI), or other information whose disclosure is restricted by statute. Paper comments (with their attachments) will be scanned and placed on the web page. To the extent feasible, other supporting information for these guidelines may be placed on the web page as well. EPA will maintain a docket list of the materials that are available in the public docket, and will include this docket list with the other materials on the Web site.

How and To Whom Do I Submit Comments?

You may submit comments via EPA's Web site, electronic mail (e-mail), mail, facsimile, or in person. To ensure proper receipt of your comments by EPA, identify Docket ID No. OEI-10014 in the subject line on the first page of your comments.

Submitting comments via EPA's web page (www.epa.gov/oei/qualityguidelines) is the Agency's preferred method for receiving comments on the draft “Information Quality Guidelines” in order to ensure timely receipt. The Web site is an “anonymous access” system, which means EPA will not know your identity, e-mail address, or other contact information unless you provide it. Please note, that EPA asks commenters to provide their names in order to comment via the Web site. These commenters' names will be included with their comments when they are placed on the EPA Web site for public viewing.

Comments may also be sent by e-mail to: quality.guidelines@epa.gov, Attention: Docket ID No. OEI-10014. In contrast to the Web site, EPA's e-mail system is not an “anonymous access” system. If you send an e-mail comment, EPA's e-mail system automatically captures your e-mail address. E-mail addresses that are automatically captured by EPA's e-mail system will be posted on the Web site with comments received.

If you submit any type of electronic comment EPA recommends that you include your name, mailing address, and an e-mail address or other contact information with your comment. This ensures that you can be identified as the submitter of the comment and it allows EPA to contact you in case EPA cannot read your comment due to technical difficulties or seeks further information on the substance of your comment. EPA's policy is to post comments, as they are submitted. Any identifying or contact information provided in the comment will be made available to the public via the Web site.

If you submit comments by U.S. mail, send two copies of your comments to: Evangeline Tsibris Cummings, Environmental Protection Agency, Office of Environmental Information, Mail Code 2842T, 1200 Pennsylvania Avenue, N.W., Washington, DC Attention: Docket ID No. OEI-10014.

If you submit comments in person, by courier, or other shipping method, deliver your comments to: U.S. EPA, 401 M Street SW., Washington, DC, 20460 Northeast Mall, Room B607, Attention: Docket ID No. OEI-10014. The docket is open from 12:00PM—4:00 PM EST Monday through Friday, excluding legal holidays. Send comments by fax to: 202-566-0706, Attention: Docket ID No. OEI-10014 and Attention: Ms. Evangeline Tsibris Cummings.

How Do I Participate in EPA's Public Meeting on the “Information Quality Guidelines”?

EPA will convene a public meeting on May 15, 2002 in Washington, DC, for the purpose of receiving public comments on the draft Guidelines for Ensuring and Maximizing the Quality, Objectivity, Utility, and Integrity of Information Disseminated by the Environmental Protection Agency. This meeting is open to the public. Please check the EPA Web site to confirm the location of the public meeting. EPA encourages you to register for the public meeting at: www.epa.gov/oei/qualityguidelines by May 3, 2002, to ensure timely receipt of your registration and to ensure that adequate space is provided and adequate time is allotted for those who wish to present comments. You may also register by contacting Ms. Evangeline Tsibris Cummings, U.S. Environmental Protection Agency, Office of Environmental Information, Mail Code 2842T, 1200 Pennsylvania Avenue, NW., Washington, DC 20460. Telephone: 202-566-0621; e-mail: cummings.evangeline@epa.gov.

EPA will not be recording or transcribing the public meeting. To facilitate EPA's consideration of your planned comments, EPA recommends that you provide EPA with a written record of those comments you want EPA to consider, either at the public meeting or shortly thereafter via the methods described in this notice.

How Will EPA Use My Comments?

EPA will consider all comments received during the comment period as the Agency develops the final “Information Quality Guidelines.” Comments received after the close of the comment period may be considered as time permits. As appropriate, EPA intends to summarize or respond to significant comments when the Agency issues the final “Information Quality Guidelines”. However, due to the limited time available, EPA does not expect to be able to respond to individual comments.

Dated: April 24, 2002.
Elaine Stanley,
Director, Office of Information Analysis and Access, Office of Environmental Information.

[FR Doc. 02-10626 Filed 4-29-02; 8:45 am]

BILLING CODE 6560-50-P